DEPARTMENT OF JUSTICE

Office of Juvenile Justice and Delinquency Prevention

[OJP (OJJDP)-1276]

Program Announcement for Training and Technical Assistance for National Innovations To Reduce Disproportionate Minority Confinement (The Deborah Ann Wysinger Memorial Program)

AGENCY: Office of Justice Programs, Office of Juvenile Justice and Delinquency Prevention, Justice.

ACTION: Notice of solicitation.

SUMMARY: The Office of Juvenile Justice and Delinquency Prevention (OJJDP) is requesting applications for Training and Technical Assistance for National Innovations to Reduce Disproportionate Minority Confinement. The purpose of the training and technical assistance is to assist States as they plan, implement, and monitor their disproportionate minority confinement (DMC) initiatives. Addressing DMC is the fourth core protection in the State plan requirements under the Formula Grants program established in Part B of the Juvenile Justice and Delinquency Prevention (JJDP) Act of 1974, as amended (Pub. L. 93-415; 42 U.S.C. 5663). Section 223(a)(23) provides that States participating in the Formula Grants program must take steps to address the issue of DMC if it is found to exist in the State. OJJDP is issuing this competitive solicitation for innovative proposals to implement a national planning, training, technical assistance, and information dissemination initiative to assist States and local jurisdictions to address DMC as required by the JJDP Act.

DATES: Applications must be received by August 7, 2000.

ADDRESSES: Interested applicants can obtain an application kit from the Juvenile Justice Clearinghouse at 800-638-8736. The application kit is also available at OJJDP's Web site at www.ojjdp.ncjrs.org/grants/about.html#kit. (See “Format” and “Delivery Instructions” later in this announcement for instructions on application standards and the address to which applications must be sent.)

FOR FURTHER INFORMATION CONTACT: Gail Olezene, Program Manager, Office of Juvenile Justice and Delinquency Prevention; Phone: 202-305-9234 [This is not a toll-free number].

SUPPLEMENTARY INFORMATION:

Purpose

The purpose of this program is to provide States, territories, and the District of Columbia with training and technical assistance support to address disproportionate minority confinement (DMC), the subject of the fourth core protection of the Juvenile Justice and Delinquency Prevention (JJDP) Act of 1974, as amended. The other core protections are deinstitutionalization of status offenders, removal of juveniles from adult jails and lockups, and sight and sound separation of juveniles from adult offenders in secure institutions.

Background

The 1992 amendments to the Juvenile Justice and Delinquency Prevention (JJDP) Act of 1974, as amended, required States to take steps to address DMC as a condition for receipt of 25 percent of the State's Formula Grants program allocation, thus creating the fourth core protection of the JJDP Act (Section 223(a)(23)). The Office of Juvenile Justice and Delinquency Prevention (OJJDP) issued regulations (28 CFR 31.303 (j)) requiring States participating in the Formula Grants program to collect and analyze data on DMC. States participating in the Formula Grants program address the DMC issue in three phases: identifying the extent to which DMC exists, assessing the reasons for DMC, and developing intervention plans to address those identified reasons. An OJJDP grant program was developed in 1991 to demonstrate model approaches in five competitively selected pilot States (Arizona, Florida, Iowa, North Carolina, and Oregon). Funds were also awarded to a national contractor to provide technical assistance to the pilot States and other States, to evaluate their efforts, and to share relevant information nationwide. By 1995, awards had been made to support 12 demonstration projects to test innovative interventions designed by States and local communities to address DMC.

Additional technical assistance and training were initiated in 1996 with the award of a cooperative agreement to develop curriculum and technical assistance materials to assist States in meeting the requirements of DMC. This new solicitation will build upon the products developed during the first phase of this national support effort and provide the structure and materials for intensive assistance to States. In addition to the National Training and Technical Assistance Project, initially funded in 1996, OJJDP supports Building Blocks for Youth, a program that approaches DMC from a comprehensive set of concepts (research, official decisionmaking, direct advocacy, constituency building, and communications strategies). This project, being implemented by the Youth Law Center, is funded in collaboration with the following national foundations: Edna McConnell Clark, California Wellness, Garland Howland Shaw, Rockefeller, John D. and Catherine T. MacArthur, William T. Grant, Annie E. Casey, Ford, Surnda, and the Public Welfare Foundation. Additional funders include the Center on Crime, Communities and Culture of the Open Society Institute and the Bureau of Justice Assistance in the Office of Justice Programs.

In response to the requirements of section 223(a)(23), States are implementing or developing intervention plans to address DMC that include such elements as:

• Examining decisionmaking policies and practices of police, prosecutors, courts, and probation agencies to identify where racial disparities occur in the system.

• Increasing cultural diversity of program staff.

• Developing guidelines, such as detention criteria, that reduce or eliminate racial disparities.

• Providing support training for juvenile justice system personnel.

• Developing, supporting, and expanding delinquency prevention programs.

• Increasing the availability and improving the quality of diversion programs.

• Developing community-based alternatives to secure detention and incarceration.

• Reviewing and revising existing juvenile justice system policies and procedures.

In spite of these efforts, overrepresentation of minority youth continues at levels more than twice the proportion of minority juveniles ages 12 to 17 in the general population and research findings, while not completely consistent, continue to document that data from most jurisdictions across the country show that minority youth are overrepresented within the juvenile justice system, particularly in secure facilities (Office of Juvenile Justice and Delinquency Prevention, 1999). These data further suggest that minority youth are more likely to be placed in public secure facilities, while white youth are more likely to be housed in private facilities, both secure and nonsecure, or diverted from the juvenile justice system. The 1999 OJJDP Bulletin Minorities in the Juvenile Justice System summarizes research documenting that differences in the offending rates of white and minority youth cannot explain the minority overrepresentation in arrest, conviction, and incarceration counts. The Bulletin also documents substantial evidence that minority youth are often treated differently from nonminority youth in the juvenile justice system, with approximately two-thirds of the studies examined showing that racial and ethnic status influences decisionmaking in the juvenile justice system.

While juvenile involvement in violent crimes is down and continuing to decrease, with less than one-half of 1 percent of juveniles in the United States arrested for a violent offense each year, more than 40 States have changed their laws since 1995 to require or permit increased prosecutions of juveniles in the criminal justice system (Youth Law Center, 1999b). In virtually every State, the great weight of these punitive justice policies falls disproportionately on minority youth (Youth Law Center, 1999b). Black juveniles are overrepresented at all stages of the juvenile justice system compared with their proportion in the population (Office of Juvenile Justice and Delinquency Prevention, 1999). For example, while African American youth ages 10 to 17 are only 15 percent of the U.S. adolescent population, they account for 26 percent of juvenile arrests, 32 percent of delinquency referrals to juvenile courts, 41 percent of juveniles detained in delinquency cases, 46 percent of juveniles in correctional institutions, and 52 percent of juveniles transferred to adult criminal courts after judicial hearings (Youth Law Center, 1999b).

The picture in many States reinforces disparate treatment for minority youth in secure confinement. Black males are six times more likely to be admitted to State juvenile facilities for crimes against persons than their white counterparts and 30 times more likely to be detained for drug offenses than white males (Youth Law Center, 1999b).

Juvenile Offenders and Victims: 1999 National Report (Office of Juvenile Justice and Delinquency Prevention, 1999) further documents that minorities accounted for 34 percent of the juvenile population nationally and 67 percent of juveniles committed to public facilities nationwide—a proportion nearly twice that of their proportion in the juvenile population. Minority proportions were somewhat lower for youth committed to private facilities than to public facilities. In seven States, the minority proportion of the total population of juveniles in residential placement was 75 percent or greater.

OJJDP efforts to date to assist States in addressing minority overrepresentation have yielded important lessons, such as: systemic, broad-based interventions that have continuity are necessary to reduce DMC; and each jurisdiction must assess the magnitude, extent, and nature of the disparity and plan to address those findings holistically. OJJDP recognizes the need to foster further development, documentation, and dissemination of effective strategies through planning, training and technical assistance, information dissemination, community coalition building, practical and targeted resource tools, and public education.

To meet that need, OJJDP is issuing this competitive solicitation for innovative proposals to implement a 3-year national planning, training, technical assistance, and information dissemination initiative focused on disproportionate confinement of minority youth. An award of up to $300,000 will support this initiative in its first year.

Goal

To assist States and local jurisdictions to reduce the overrepresentation of minority youth in secure detention and correctional facilities, jails, and lockups by providing jurisdictions with knowledge and expert assistance that will enable them to effectively address DMC in varying stages of the implementation phase as required by the JJDP Act.

Objectives

The objectives of this training and technical assistance program are to:

• Identify key components of a State DMC strategic plan and develop tools and other materials that facilitate implementation of the plan.

• Develop and test effective assessment instruments that may be used by any State or jurisdiction in their ongoing data collection of DMC rates.

• Develop and utilize a full range of materials, curriculums, manuals, and protocols that empower State program implementors to develop and implement effective programs, policies, and procedures that impact DMC.

• Develop and deliver information briefings to juvenile justice specialists, State Advisory Group (SAG) chairs, and selected OJJDP-funded grantees to raise levels of understanding about effective interventions and impediments to successful action.

• Assist key OJJDP grantees to incorporate DMC issues, practices, and policies into their training and education programs.

• Provide intensive technical assistance to assist States and local jurisdictions in developing the capacity to address and monitor DMC.

• Develop and disseminate public education and information materials that support advocacy of public and private interest groups in addressing DMC.

• Develop and disseminate uniform protocols for assessing problems to be addressed through technical assistance.

• Update and revise curriculums developed in the prior grant period to reflect changing assessments and needs.

• Identify and create an inventory of promising approaches that identify “best practices” for each key decision point in the juvenile justice system.

Program Strategy

OJJDP will make a single award under a cooperative agreement. The purpose of this award is to assist States and local units of government to systematically and strategically address the disproportionate confinement of minority youth over a 3-year period. The grantee will accomplish this by doing the following: (1) Develop a DMC strategic plan that States may modify for their use; (2) develop data collection protocols with guidelines for States and jurisdictions to use in their continuing assessment of the progress of their DMC program; (3) develop a flow chart from point of entry to final disposition identifying the key decision points within each State to assist in prioritizing their DMC efforts, given the range of factors that would impact on full implementation of their DMC plan; (4) identify other resources that may assist States as they plan for implementation; (5) create a trainers' database with potential trainers on DMC that can be disseminated to all States and territories; (6) develop a checklist for OJJDP grantees that aids in identification of factors that impact DMC services delivered throughout the juvenile justice system; (7) provide intensive technical assistance to 5 to 10 States to assist with their efforts to address and monitor DMC; (8) identify “best practices” in programming to reduce DMC for each key decision point in the juvenile justice system; and (9) develop a “formula” for collaboration that involves each of the major players needed to develop and implement an effective DMC initiative at both the State and local levels.

In addition to those identified above, the grantee will be responsible for the following deliverables over the 12-month project period.

• Implementation plan for this initiative.

• Diverse consultant pool with expertise in areas of community-based programming, public education, advocacy directly related to planning, systems change, collaboration, cultural sensitivity, juvenile justice issues, and other program areas as identified.

• Web site with online access to reference and referral resources.

• Consolidated inventory of training and technical assistance materials on DMC and an inventory of legislation that may impact DMC.

• Quarterly status reports in narrative form addressing the tasks accomplished, pending requests, and major objectives for the upcoming quarter.

• Annual report to include financial and programmatic overview.

• Coordination protocol to facilitate communication, shared planning, and scheduling of events related to the other OJJDP DMC grantees.

• Mechanism to inform States and local units of government of existing resources.

• Two workshops per program year for intensive technical assistance sites, and one for OJJDP grantees/contractors. The cost of materials, meeting space, and consultant fees will be paid by the grant.

• An inventory of promising approaches to address key decision points, unique to each State, that impact DMC.

• A review of previously developed curriculums for possible update or revision.

• A protocol to address the delivery of training and technical assistance to the States.

Modifications may be proposed regarding the deliverables if assessments reveal new or different issues or obstacles or if any are determined not to meet the previously outlined objectives as effectively and efficiently as an alternative approach would. Sufficient explanation should be provided to permit assessment of the merits of the proposed change.

Guiding Principles

Technical assistance and training will be developed consistent with the following principles:

• Support for empowerment of local communities to implement programs.

• Proactive and comprehensive planning.

• User-friendly and consumer-driven design.

• Commitment to uniform protocols for needs assessment, delivery of training and technical assistance, evaluation, tracking, and follow-up.

• Curriculum development based on adult learning theory and delivery of the curriculum within the context of an interactive structure.

• Coordination of effective and efficient use of expertise on a range of subject matter.

The organizational capability of the national grantee must include:

• An established track record in delivery of technical assistance and training to the 50 States and territories.

• Demonstrated capability to produce a range of general and specific technical resource materials that are user friendly, but professionally presented within short time frames.

• A base consultant pool of experienced and seasoned experts in juvenile and criminal justice as well as in culturally competent programing, civil rights legislation, and community consensus building.

• An accounting and management structure capable of supporting and supervising a number of consultants and experts providing onsite assistance throughout the Nation.

• Identification and assignment of this project, immediately following award of the cooperative agreement, to an expert manager with demonstrated expertise in juvenile justice, experience with State and local agency program delivery structures, expertise in design and delivery of training and technical assistance, and experience in working with politically sensitive issues.

• Demonstrated ability to easily move funds for expeditious procurement and payment.

• A reproduction capability or plans for contractual access to such capability.

• Demonstrated capability to produce quality products and to maintain established performance schedules within established timeframes.

Scope of Work

Applicants are expected to present a technical assistance design that incorporates these elements, while bringing innovation and cohesiveness to a strategy for the organization, operation, and delivery of the training and technical assistance program.

Eligibility Requirements

OJJDP invites applications from public and private agencies, organizations, institutions, or individuals. Private, for-profit organizations must agree to waive any profit or fees. Proposals are invited from organizations with demonstrated experience in the management of a national training and technical assistance effort and the capability to undertake activities related to this solicitation.

Selection Criteria

The proposal will be evaluated on the organization's ability to develop the project design, project management, organizational capability, and the preparation of a summary budget with basic categories of expenditures. Site visits contribute to the overall assessment of the applicants' capability. OJJDP may conduct onsite interviews with the five organizations submitting the highest scoring applications for the purpose of confirming information provided in the proposal. A full application that addresses all the selection criteria listed below is required of applicants.

Problems To Be Addressed (10 points)

Given the complexity of this issue and the focus of this initiative, applicants must clearly communicate the perceived needs of the project and their approach to responding to the ever-changing environment that surrounds this issue. The applicant must further convey understanding of the expected results of this effort, possible obstacles to their achievement, and strategies to deal with them.

Goals and Objectives (10 points)

Applicants must provide succinct statements that demonstrate an understanding of the expected outcomes of each objective and elaborate on the methodology associated with the project tasks. The strategy to address each objective must be clearly defined and expressed in operational terms and be measurable.

Project Design (30 points)

Applicants must present a project design that constitutes a measurable approach to meeting the goals and objectives of this program. The design must include a detailed implementation plan with time lines for each significant objective and program element that is directly linked to the achievement of the results sought in the project. The design must indicate how the requirements of each project objective and deliverable will be met and measured and include a cohesive, well-developed plan for providing knowledge, products, and best practices to States and selected OJJDP grantees. Of major importance is the specification of how systematic technical assistance will be provided to a targeted group of States that have requested intensive technical assistance in meeting DMC plan requirements.

Project Management (20 points)

In addition to the basic project management structure, applicants should specifically describe coordination and collaboration efforts related to the project. Applicants' management structure and staffing must be adequate and appropriate for the successful implementation of the project. Competitiveness will be enhanced by applicants that can clearly demonstrate previous experience with culturally competent program efforts. Key personnel must be identified in the staffing pattern, along with résumés and a statement of availability. Assurances must be provided that they will be available to the project within a reasonable time following application. The core consultant pool must be identified, and résumés must be provided for these individuals along with a description of how they will be used.

Organizational Capability (15 points)

Applicants must describe the organizational capability to effectively manage a national technical assistance and training program. They should indicate where this program will be placed within the organization's structure and explain the efficacy of this placement.

Budget (15 points)

The budget should be planned over a 12-month project period. Applicants must provide a proposed budget that is complete, detailed, reasonable, allowable, and cost effective for the activities to be undertaken.

Format

The narrative portion of this application must not exceed 30 pages in length (excluding forms, assurances, and appendixes) and must be submitted on 8½- by 11-inch paper, double spaced on one side of the paper in a standard 12-point font. These standards are necessary to maintain a fair and uniform standard among all applicants. If the narrative does not conform to these standards, the application will be ineligible for consideration.

Award Period

This project will be funded for 3 years in 1-year budget periods. Funding after the first budget period depends on grantee performance, availability of funds, and other criteria established at the time of the award.

Award Amount

Up to $300,000 is available to support award of a cooperative agreement to a single provider for the initial 1-year budget period.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail request to puborder@ncjrs.org. The Application Kit is also available online at www.ojjdp.ncjrs.org./grants/about.html#kit.

Coordination of Federal Efforts

To encourage better coordination among Federal agencies in addressing State and local needs, the U.S. Department of Justice (DOJ) is requiring applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

The term “related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Faxed or e-mailed applications will not be accepted. Note: In the lower left hand corner of the envelope you must clearly mark “Training and Technical Assistance for National Innovations To Reduce Disproportionate Minority Confinement.”

Due Date

Applicants are responsible for ensuring that the original and five copies of the application package are received by 5 p.m. ET on August 7, 2000.

Contact

For further information contact Gail Olezene, Program Manager, Training and Technical Assistance Division, 202-305-9234, or send an e-mail inquiry to olezenec@ojp.usdoj.gov.

References

Community Research Associates. 1997. Disproportionate Confinement of Minority Juveniles in Secure Facilities: 1996 National Report. Champaign, IL: Community Research Associates.

Office of Juvenile Justice and Delinquency Prevention. 1999. Minorities in the Juvenile Justice System. Bulletin. Washington, DC: U.S. Department of Justice, Office of Justice Programs, Office of Juvenile Justice and Delinquency Prevention.

Sickmund, M. and Snyder, H. 1999. Juvenile Offenders and Victims: 1999 National Report. Washington, DC: U.S. Department of Justice, Office of Justice Programs, Office of Juvenile Justice and Delinquency Prevention.

Youth Law Center. 1999a. Fact Sheet: The Federal Disproportionate Minority Confinement Mandate: Impact on African American and Latino Youth. Washington, DC: Youth Law Center.

Youth Law Center. 1999b. Fact Sheet: Punitive Policies Hit Minority Youth Hardest. Washington, DC: Youth Law Center.

John J. Wilson,
Acting Administrator, Office of Juvenile Justice and Delinquency Prevention.

[FR Doc. 00-15649 Filed 6-20-00; 8:45 am]

BILLING CODE 4410-18-P